DEPARTMENT OF TRANSPORTATION

Federal Aviation Administration

14 CFR Part 39

[Docket No. FAA-2022-1296; Project Identifier MCAI-2022-00628-T]

RIN 2120-AA64

Airworthiness Directives; Airbus SAS Airplanes

AGENCY: Federal Aviation Administration (FAA), DOT.

ACTION: Supplemental notice of proposed rulemaking (SNPRM).

SUMMARY: The FAA is revising a notice of proposed rulemaking (NPRM) to supersede Airworthiness Directive (AD) 2020-20-05 and AD 2022-09-16, which applies to certain Airbus SAS Model A318 series; A319-111, -112, -113, -114, -115, -131, -132, -133, -151N, and -153N; A320 series; and A321 series airplanes. This action revises the NPRM by adding new and revised tasks and limitations that must be incorporated into the existing maintenance or inspection program. The FAA is proposing this AD to address the unsafe condition on these products. Since these actions would impose an additional burden over those in the NPRM, the FAA is reopening the comment period to allow the public the chance to comment on these changes.

DATES: The FAA must receive comments on this proposed AD by May 8, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1296; or in person at Docket Operations between 9 a.m. and 5 p.m., Monday through Friday, except Federal holidays. The AD docket contains this NPRM, the mandatory continuing airworthiness information (MCAI), any comments received, and other information. The street address for Docket Operations is listed above.

Material Incorporated by Reference:

• For material that is proposed for IBR in this NPRM, contact European Union Aviation Safety Agency (EASA), Konrad-Adenauer-Ufer 3, 50668 Cologne, Germany; telephone +49 221 8999 000; email ADs@easa.europa.eu; website easa.europa.eu. You may find this material on the EASA website at ad.easa.europa.eu. It is also available at regulations.gov under Docket No. FAA-2022-1296.

• You may view this service information at the FAA, Airworthiness Products Section, Operational Safety Branch, 2200 South 216th St., Des Moines, WA. For information on the availability of this material at the FAA, call 206-231-3195.

FOR FURTHER INFORMATION CONTACT: Dan Rodina, Aerospace Engineer, Large Aircraft Section, FAA, International Validation Branch, 2200 South 216th St., Des Moines, WA 98198; telephone 206-231-3225; email dan.rodina@faa.gov.

SUPPLEMENTARY INFORMATION:

Comments Invited

The FAA invites you to send any written relevant data, views, or arguments about this proposal. Send your comments to an address listed under ADDRESSES. Include “Docket No. FAA-2022-1296; Project Identifier MCAI-2022-00628-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Dan Rodina, Aerospace Engineer, Large Aircraft Section, FAA, International Validation Branch, 2200 South 216th St., Des Moines, WA 98198; telephone 206-231-3225; email dan.rodina@faa.gov. Any commentary that the FAA receives that is not specifically designated as CBI will be placed in the public docket for this rulemaking.

Background

The FAA issued AD 2020-20-05, Amendment 39-21261 (85 FR 65197, October 15, 2020) (AD 2020-20-05), and AD 2022-09-16, Amendment 39-22036 (87 FR 31943, May 26, 2022) (AD 2022-09-16) for certain Model A318-111, -112, -121, and -122 airplanes; Model A319-111, -112, -113, -114, -115, -131, -132, -133, -151N, and -153N airplanes; Model A320-211, -212, -214, -216, -231, -232, -233, -251N, -252N, -253N, -271N, -272N, and -273N airplanes; and Model -111, -112, -131, -211, -212, -213, -231, -232, -251N, -251NX, -252N, -252NX, -253N, -253NX, -271N, -271NX, -272N, and -272NX airplanes. AD 2020-20-05 and AD 2022-09-16 require revising the existing maintenance or inspection program, as applicable, to incorporate new or more restrictive airworthiness limitations. The FAA issued AD 2020-20-05 and AD 2022-09-16 to address fatigue cracking, accidental damage, or corrosion in principal structural elements, which could result in reduced structural integrity of the airplane.

The FAA issued an NPRM to amend 14 CFR part 39 by adding an AD to supersede AD 2020-20-05 and AD 2022-09-16 that would apply to certain Airbus SAS Model A318-111, A318-112, A318-121, A318-122, A319-111, A319-112, A319-113, A319-114, A319-115, A319-131, A319-132, A319-133, A319-151N, A319-153N, A319-171N, A320-211, A320-212, A320-214, A320-215, A320-216, A320-231, A320-232, A320-233, A320-251N, A320-252N, A320-253N, A320-271N, A320-272N, A320-273N, A321-111, A321-112, A321-131, A321-211, A321-212, A321-213, A321-231, A321-232, A321-251N, A321-251NX, A321-252N, A321-252NX, A321-253N, A321-253NX, A321-271N, A321-271NX, A321-272N, and A321-272NX airplanes. The NPRM published in the Federal Register on October 20, 2022 (87 FR 63712) (the NPRM). The NPRM was prompted by an MCAI originated by EASA, which is the Technical Agent for the Member States of the European Union. EASA issued AD 2022-0085, dated May 12, 2022 (EASA AD 2022-0085), to correct an unsafe condition. The NPRM proposed to require the actions in AD 2022-09-16 in addition to revising the existing maintenance or inspection program, as applicable, to incorporate additional new or more restrictive airworthiness limitations.

Actions Since the NPRM Was Issued

Since the FAA issued the NPRM, EASA issued 2023-0008, dated January 16, 2023 (EASA AD 2023-0008), which affects EASA AD 2022-0085, dated May 12, 2022. EASA AD 2023-0008 states that new and/or more restrictive maintenance tasks have been published. EASA AD 2023-0008 applies to all Airbus A318-111, A318-112, A318-121, A318-122, A319-111, A319-112, A319-113, A319-114, A319-115, A319-131, A319-132, A319-133, A319-151N, A319-153N, A319-171N, A320-211, A320-212, A320-214, A320-215, A320-216, A320-231, A320-232, A320-233, A320-251N, A320-252N, A320-253N, A320-271N, A320-272N, A320-273N, A321-111, A321-112, A321-131, A321-211, A321-212, A321-213, A321-231, A321-232, A321-251N, A321-251NX, A321-252N, A321-252NX, A321-253N, A321-253NX, A321-271N, A321-271NX, A321-272N and A321-272NX airplanes. Model A320-215 airplanes are not certificated by the FAA and are not included on the U.S. type certificate data sheet; this proposed AD therefore does not include those airplanes in the applicability. Airplanes with an original airworthiness certificate or original export certificate of airworthiness issued after November 10, 2022, must comply with the airworthiness limitations specified as part of the approved type design and referenced on the type certificate data sheet; this proposed AD therefore does not include those airplanes in the applicability.

The FAA is proposing this AD to address fatigue cracking, accidental damage, or corrosion in principal structural elements, which could result in reduced structural integrity of the airplane. You may examine the MCAI in the AD docket at regulations.gov under Docket No. FAA-2022-1296.

Comments

The FAA received a comment from The Air Line Pilots Association, International (ALPA), who supported the NPRM without change.

The FAA received additional comments from two commenters, including American Airlines and United Airlines. The following presents the comments received on the NPRM and the FAA's response to each comment.

Request To Retain Provisions of AD 2020-20-05

American Airlines supported the NPRM, but also asserted that the proposed AD should have retained certain provisions of AD 2020-20-05.

American Airlines noted that the NPRM proposed to supersede both AD 2020-20-05 and AD 2022-09-16, but restated only the requirements of AD 2022-09-16. American noted that the Reason section of EASA AD 2022-0085 states that it retains the requirements of both EASA AD 2020-0036R1, dated June 24, 2020 (EASA AD 2020-0036R1) (which corresponds to FAA AD 2020-20-05) and EASA AD 2021-0140, dated June 14, 2021 (EASA AD 2021-0140) (which corresponds to FAA AD 2022-09-16). American Airlines stated that AD 2022-09-16 does not supersede but “is an extension to” AD 2020-20-05. American Airlines therefore requested that the proposed AD be revised to retain the requirements of AD 2020-20-05, until the new maintenance program revision required by paragraph (j) of the proposed AD is implemented.

Also, since the NPRM would have approved previous AMOCs for AD 2022-09-16 only, American Airlines recommended that the proposed AD state that AMOCs previously approved for AD 2020-20-05 also continue to be approved for this AD.

The FAA agrees with the requests. AD 2022-09-16 stated, in paragraph (j), that it terminates Task 531135-01-2, which is required, in part, by paragraph (i) of AD 2020-20-05. Therefore, not all requirements of AD 2020-20-05 were terminated by AD 2022-09-16. The FAA has determined that it is necessary to retain the requirements of paragraphs (i), (j), (k), and (l) of AD 2020-20-05, until the maintenance program revision required by paragraph (i) of AD 2020-20-05 is terminated by accomplishment of the requirements of paragraph (j) of this AD.

Therefore, the FAA has revised the proposed AD by restating the requirements of paragraphs (i), (j), (k), and (l) of AD 2020-20-05 in paragraphs (g), (h), (i), and (j) of this AD, and redesignating subsequent paragraphs accordingly. The FAA has also added paragraph (r)(1)(iii) in this proposed AD to extend previous AMOC approval for the requirements of paragraph (i) of AD 2020-20-05 that are retained in paragraph (g) of this proposed AD.

Requests To Allow Alternative Methods of Compliance (AMOCs)

United Airlines requested that the proposed AD allow production concession, repair design approval sheet (RDAS), repair and design approval form (RDAF), and Airbus statement of Airworthiness Compliance (ASAC) as AMOCs if they include instructions for continued airworthiness (ICAs) for repairs to airworthiness limitation (ALI) areas as stated in Section 1, “Introduction,” of Airbus A318/A319/A320/A321 ALS Part 2, Revision 09, dated February 7, 2022 (which is referenced in EASA AD 2022-0085). The FAA does not agree that a change to this proposed AD is necessary. The provision in paragraph (r)(2) of this proposed AD addresses where service information specified in EASA AD 2022-0085 and EASA 2023-0008 refers to obtaining instructions from a manufacturer.

Related Service Information Under 1 CFR Part 51

The FAA reviewed EASA AD 2022-0085 and EASA AD 2023-0008. This service information specifies new or more restrictive airworthiness limitations for airplane structures and safe life limits. These documents are distinct since one includes all damage tolerant airworthiness limitations items and the other revises certain damage tolerant airworthiness limitation items.

This proposed AD would also require EASA AD 2021-0140, which the Director of the Federal Register approved for incorporation by reference as of June 30, 2022 (87 FR 31943, May 26, 2022).

This proposed AD would also require EASA AD 2020-0036R1, which the Director of the Federal Register approved for incorporation by reference as of November 19, 2020 (85 FR 65197, October 15, 2020).

This material is reasonably available because the interested parties have access to it through their normal course of business or by the means identified in ADDRESSES.

FAA's Determination

This product has been approved by the aviation authority of another country and is approved for operation in the United States. Pursuant to the FAA's bilateral agreement with the State of Design Authority, it has notified the FAA of the unsafe condition described in the MCAI described above. The FAA is issuing this NPRM after determining that the unsafe condition described previously is likely to exist or develop in other products of the same type design.

Certain changes described above expand the scope of the NPRM. As a result, it is necessary to reopen the comment period to provide additional opportunity for the public to comment on this SNPRM.

Proposed AD Requirements in This NPRM

This proposed AD would retain the requirements of AD 2020-20-05 and AD 2022-09-16. This proposed AD would also expand the applicability and require revising the existing maintenance or inspection program, as applicable, to incorporate additional new or more restrictive airworthiness limitations, which are specified in EASA AD 2022-0085 and EASA AD 2023-0008 described previously, as proposed for incorporation by reference. Any differences with EASA AD 2022-0085 and EASA AD 2023-0008 are identified as exceptions in the regulatory text of this AD.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance (AMOC) according to paragraph (r)(1) of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to retain the IBR of EASA AD 2020-0036R1 and EASA AD 2021-0140 and incorporate EASA AD 2022-0085 and EASA AD 2023-0008 by reference in the FAA final rule. This proposed AD would, therefore, require compliance with EASA AD 2021-0140, EASA AD 2020-0036R1, EASA AD 2022-0085, and EASA AD 2023-0008 in their entirety through that incorporation, except for any differences identified as exceptions in the regulatory text of this proposed AD. Using common terms that are the same as the heading of a particular section in EASA AD 2020-0036R1, EASA AD 2021-0140, EASA AD 2022-0085, or EASA AD 2023-0008 does not mean that operators need comply only with that section. For example, where the AD requirement refers to “all required actions and compliance times,” compliance with this AD requirement is not limited to the section titled “Required Action(s) and Compliance Time(s)” in EASA AD 2020-0036R1, EASA AD 2021-0140, EASA AD 2022-0085, or EASA AD 2023-0008. Service information required by EASA AD 2020-0036R1, EASA AD 2021-0140, EASA AD 2022-0085, and EASA AD 2023-0008 for compliance will be available at regulations.gov by searching for and locating Docket No. FAA-2022-1296 after the FAA final rule is published.

Airworthiness Limitation ADs Using the New Process

The FAA's process of incorporating by reference MCAI ADs as the primary source of information for compliance with corresponding FAA ADs has been limited to certain MCAI ADs (primarily those with service bulletins as the primary source of information for accomplishing the actions required by the FAA AD). However, the FAA is now expanding the process to include MCAI ADs that require a change to airworthiness limitation documents, such as airworthiness limitation sections.

For these ADs that incorporate by reference an MCAI AD that changes airworthiness limitations, the FAA requirements are unchanged. Operators must revise the existing maintenance or inspection program, as applicable, to incorporate the information specified in the new airworthiness limitation document. The airworthiness limitations must be followed according to 14 CFR 91.403(c) and 91.409(e).

The previous format of the airworthiness limitation ADs included a paragraph that specified that no alternative actions (e.g., inspections) or intervals may be used unless the actions and intervals are approved as an AMOC in accordance with the procedures specified in the AMOCs paragraph under “Additional FAA Provisions.” This new format includes a “New Provisions for Alternative Actions and Intervals” paragraph that does not specifically refer to AMOCs, but operators may still request an AMOC to use an alternative action or interval.

Costs of Compliance

The FAA estimates that this proposed AD affects 1,864 airplanes of U.S. registry. The FAA estimates the following costs to comply with this proposed AD:

The FAA estimates the total cost per operator for the retained actions from AD 2020-20-05 and AD 2022-09-16 to be $7,650 (90 work-hours × $85 per work-hour).

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new proposed actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing AD 2020-20-05, Amendment 39-21261 (85 FR 65197, October 15, 2020); and AD 2022-09-16, Amendment 39-22036 (87 FR 31943, May 26, 2022); and

b. Adding the following new AD:

Airbus SAS: Docket No. FAA-2022-1296; Project Identifier MCAI-2022-00628-T.

(a) Comments Due Date

The FAA must receive comments on this airworthiness directive (AD) by May 8, 2023.

(b) Affected ADs

This AD replaces AD 2020-20-05, Amendment 39-21261 (85 FR 65197, October 15, 2020) (AD 2020-20-05); and AD 2022-09-16, Amendment 39-22036 (87 FR 31943, May 26, 2022) (AD 2022-09-16).

(c) Applicability

This AD applies to Airbus SAS airplanes specified in paragraphs (c)(1) through (4) of this AD, certificated in any category, with an original airworthiness certificate or original export certificate of airworthiness issued on or before November 10, 2022.

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -251NX, -252N, -252NX, -253N, -253NX, -271N, -271NX, -272N, and -272NX airplanes.

(d) Subject

Air Transport Association (ATA) of America Code 05, Time Limits/Maintenance Checks.

(e) Unsafe Condition

This AD was prompted by a determination that new or more restrictive airworthiness limitations are necessary. The FAA is issuing this AD to address fatigue cracking, accidental damage, or corrosion in principal structural elements, which could result in reduced structural integrity of the airplane.

(f) Compliance

Comply with this AD within the compliance times specified, unless already done.

(g) Retained Revision of the Existing Maintenance or Inspection Program, With No Changes From AD 2020-20-05

This paragraph restates the requirements of paragraph (i) of AD 2020-20-05, with no changes. For airplanes with an original airworthiness certificate or original export certificate of airworthiness issued on or before October 11, 2019: Except as specified in paragraph (h) of this AD: Comply with all required actions and compliance times specified in, and in accordance with, European Union Aviation Safety Agency (EASA) AD 2020-0036R1, dated June 24, 2020 (EASA AD 2020-0036R1). Accomplishing the maintenance or inspection program revision required by paragraph (o) of this AD terminates the requirements of this paragraph.

(h) Retained Exceptions to EASA AD 2020-0036R1, With No Changes

This paragraph restates the requirements of paragraph (j) of AD 2020-20-05, with no changes.

(1) The requirements specified in paragraphs (1) and (2) of EASA AD 2020-0036R1 do not apply to this AD.

(2) Paragraph (3) of EASA AD 2020-0036R1 specifies revising “the AMP” within 12 months after its effective date, but this AD requires revising the existing maintenance or inspection program, as applicable, to incorporate the “tasks and associated thresholds and intervals” specified in paragraph (3) of EASA AD 2020-0036R1 within 90 days after November 19, 2020 (the effective date of AD 2020-20-05).

(3) The initial compliance times for doing the tasks specified in paragraph (3) of EASA AD 2020-0036R1 are at the applicable “associated thresholds” specified in paragraph (3) of EASA AD 2020-0036R1, or within 90 days after November 19, 2020 (the effective date of AD 2020-20-05), whichever occurs later.

(4) The provisions specified in paragraphs (4), (5), and (6) of EASA AD 2020-0036R1 do not apply to this AD.

(5) The “Remarks” section of EASA AD 2020-0036R1 does not apply to this AD.

(i) Retained Provisions for Alternative Actions or Intervals From AD 2020-20-05, With New Exception

This paragraph restates the requirements of paragraph (k) of AD 2020-20-05, with new exception. Except as required by paragraphs (k) and (o) of this AD, after the existing maintenance or inspection program has been revised as required by paragraph (g) of this AD, no alternative actions (e.g., inspections) or intervals are allowed unless they are approved as specified in the provisions of the “Ref. Publications” section of EASA AD 2020-0036R1.

(j) Retained Credit for Original EASA AD, With No changes

This paragraph restates the credit provided in paragraph (l) of AD 2020-20-05, with no changes. This paragraph provides credit for actions required by paragraph (g) of this AD, if those actions were performed before November 19, 2020 (the effective date of AD 2020-20-05) using EASA AD 2020-0036, dated February 26, 2020.

(k) Retained Revision of the Existing Maintenance or Inspection Program, With No Changes From AD 2022-09-16

This paragraph restates the requirements of paragraph (g) of AD 2022-09-16, with no changes. For airplanes with an original airworthiness certificate or original export certificate of airworthiness issued on or before November 10, 2020: Except as specified in paragraph (l) of this AD, comply with all required actions and compliance times specified in, and in accordance with, EASA AD 2021-0140, dated June 14, 2021 (EASA AD 2021-0140). Accomplishing the revision of the existing maintenance or inspection program required by paragraph (o) of this AD terminates the requirements of this paragraph.

(l) Retained Exceptions to EASA AD 2021-0140

This paragraph restates the requirements of paragraph (h) of AD 2022-09-16, with no changes.

(1) Where EASA AD 2021-0140 refers to its effective date, this AD requires using June 30, 2022 (the effective date of AD 2022-09-16).

(2) The requirements specified in paragraphs (1) and (2) of EASA AD 2021-0140 do not apply to this AD.

(3) Paragraph (3) of EASA AD 2021-0140 specifies revising “the approved [aircraft maintenance program] AMP” within 12 months after its effective date, but this AD requires revising the existing maintenance or inspection program, as applicable, within 90 days after June 30, 2022 (the effective date of AD 2022-09-16).

(4) The initial compliance time for doing the tasks specified in paragraph (3) of EASA AD 2021-0140 is at the applicable “thresholds” as incorporated by the requirements of paragraph (3) of EASA AD 2021-0140, or within 90 days after June 30, 2022 (the effective date of AD 2022-09-16), whichever occurs later.

(5) The provisions specified in paragraph (4) of EASA AD 2021-0140 do not apply to this AD.

(6) The “Remarks” section of EASA AD 2021-0140 does not apply to this AD.

(m) Retained Provisions for Alternative Actions or Intervals From AD 2022-09-16, With New Exception

This paragraph restates the requirements of paragraph (i) of AD 2022-09-16, with new exception. Except as required by paragraph (o) of this AD, after the existing maintenance or inspection program has been revised as required by paragraph (k) of this AD, no alternative actions (e.g., inspections) or intervals are allowed unless they are approved as specified in the provisions of the “Ref. Publications” section of EASA AD 2021-0140.

(n) Retained Terminating Action for Certain Requirements in AD 2020-20-05, With Revised References

This paragraph restates the terminating action specified in paragraph (i) of AD 2022-09-16, with revised references. Accomplishing the actions required by paragraph (k) of this AD, including incorporating Task 531135-03-1 as required by EASA AD 2021-0140, terminates Task 531135-01-2, as required by EASA AD 2020-0036R1 by the requirements in paragraph (g) of this AD.

(o) New Revision of the Existing Maintenance or Inspection Program

Except as specified in paragraph (p) of this AD: Comply with all required actions and compliance times specified in, and in accordance with, EASA AD 2022-0085, dated May 12, 2022 (EASA AD 2022-0085) and EASA AD 2023-0008, dated January 16, 2023 (EASA AD 2023-0008). Where EASA AD 2023-0008 affects the same airworthiness limitations as those in EASA AD 2022-0085, the airworthiness limitations referenced in EASA AD 2023-0008 prevail. Accomplishing the revision of the existing maintenance or inspection program required by this paragraph terminates the requirements of paragraphs (g) and (i) of this AD.

(p) Exceptions to EASA AD 2022-0085 and EASA AD 2023-0008

(1) The requirements specified in paragraphs (1) and (2) of EASA AD 2022-0085 and EASA AD 2023-0008 do not apply to this AD.

(2) Paragraph (3) of EASA AD 2022-0085 and EASA AD 2023-0008 specifies revising “the approved AMP” within 12 months after its effective date, but this AD requires revising the existing maintenance or inspection program, as applicable, within 90 days after the effective date of this AD.

(3) The initial compliance time for doing the tasks specified in paragraph (3) of EASA AD 2022-0085 and EASA AD 2023-0008 is at the applicable “thresholds” as incorporated by the requirements of paragraph (3) of EASA AD 2022-0085 and EASA AD 2023-0008, respectively, or within 90 days after the effective date of this AD, whichever occurs later. Where EASA AD 2023-0008 affects the same airworthiness limitations as those in EASA AD 2022-0085, the airworthiness limitations referenced in EASA AD 2023-0008 prevail.

(4) The provisions specified in paragraphs (4) and (5) of EASA AD 2022-0085 and EASA AD 2023-0008 do not apply to this AD.

(5) This AD does not adopt the “Remarks” section of EASA AD 2022-0085 and EASA AD 2023-0008.

(q) New Provisions for Alternative Actions and Intervals

After the existing maintenance or inspection program has been revised as required by paragraph (o) of this AD, no alternative actions (e.g., inspections) and intervals are allowed unless they are approved as specified in the provisions of the “Ref. Publications” section of EASA AD 2022-0085 or EASA AD 2023-0008, as applicable.

(r) Additional FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (s) of this AD. Information may be emailed to: 9-AVS-AIR-730-AMOC@faa.gov.

(i) Before using any approved AMOC, notify your appropriate principal inspector, or lacking a principal inspector, the manager of the responsible Flight Standards Office.

(ii) AMOCs approved previously for AD 2022-09-16 are approved as AMOCs for the corresponding provisions of EASA AD 2021-0140 that are required by paragraph (i) of this AD.

(iii) AMOCs approved previously for AD 2020-20-05 are approved as AMOCs for the corresponding provisions of EASA AD 2020-0036R1 that are required by paragraph (g) of this AD.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(s) Related Information

For more information about this AD, contact Dan Rodina, Aerospace Engineer, Large Aircraft Section, FAA, International Validation Branch, 2200 South 216th St., Des Moines, WA 98198; telephone 206-231-3225; email dan.rodina@faa.gov.

(t) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 27, 2023.

(i) European Union Aviation Safety Agency (EASA) AD 2022-0085, dated May 12, 2022.

(ii) European Union Aviation Safety Agency (EASA) AD 2023-0008, dated January 16, 2023.

(4) The following service information was approved for IBR on June 30, 2022 (87 FR 31943, May 26, 2022).

(i) European Union Aviation Safety Agency (EASA) AD 2021-0140, dated June 14, 2021.

(ii) [Reserved]

(5) The following service information was approved for IBR on November 19, 2020 (85 FR 65197, October 15, 2020).

(i) European Union Aviation Safety Agency (EASA) AD 2020-0036R1, dated June 24, 2020.

(ii) [Reserved]

(6) For the EASA ADs identified in this AD, contact EASA, Konrad-Adenauer-Ufer 3, 50668 Cologne, Germany; telephone +49 221 8999 000; email ADs@easa.europa.eu; website easa.europa.eu. You may find these EASA ADs on the EASA website at ad.easa.europa.eu.

(7) You may view this service information at the FAA, Airworthiness Products Section, Operational Safety Branch, 2200 South 216th St., Des Moines, WA. For information on the availability of this material at the FAA, call 206-231-3195.

(8) You may view this service information that is incorporated by reference at the National Archives and Records Administration (NARA). For information on the availability of this material at NARA, email fr.inspection@nara.gov, or go to: www.archives.gov/federal-register/cfr/ibr-locations.html.

Issued on March 9, 2023.
Christina Underwood,
Acting Director, Compliance & Airworthiness Division, Aircraft Certification Service.

[FR Doc. 2023-05330 Filed 3-22-23; 8:45 am]

BILLING CODE 4910-13-P